DEPARTMENT OF TRANSPORTATION

Transportation Security Administration

Reports, Forms, and Record Keeping Requirements: Agency Information Collection Activity under OMB Review; Security Programs for Foreign Air Carriers

AGENCY: Transportation Security Administration (TSA), DOT.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on August 13, 2002.

DATES: Send your comments by January 9, 2003. A comment to OMB is most effective if OMB receives it within 30 days of publication.

ADDRESSES: Address your comments to the Office of Information and Regulatory Affairs, Office of Management and Budget, 725 17th Street, NW., Washington, DC 20503, Attention: DOT-TSA Desk Officer.

FOR FURTHER INFORMATION CONTACT: Dan Mullarkey, Office of Security Regulation & Policy, Transportation Security Administration, 400 7th Street, SW., Washington, DC 20590-0001; telephone (202) 385-1236; facsimile (202) 493-1818; e-mail Dan.Mullarkey@tsa.dot.gov.

SUPPLEMENTARY INFORMATION:

Transportation Security Administration (TSA)

Title: Security Programs for Foreign Air Carriers.

Type of Request: Extension of a currently approved collection.

OMB Control Number: 2110-0006.

Forms(s): 1650-17, 1650-8.

Affected Public: A total of 171 foreign air carriers.

Abstract: The information collected is used to determine compliance of 49 CFR part 1546 and to ensure passenger safety by monitoring foreign air carrier security procedures. These security programs establish procedures that foreign air carriers must carry out to protect persons and property against acts of criminal violence, aircraft piracy, and terrorist activities.

Estimated Annual Burden Hours: An estimated 5,193 hours annually.

TSA is soliciting comments to—

(1) evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including through the use of appropriate automated, electronic, mechanical, or other technological collection techniques or other forms of information technology.

Issued in Washington, DC, on December 4, 2002.
Susan T. Tracey,
Deputy Chief Administrative Officer.

[FR Doc. 02-31148 Filed 12-9-02; 8:45 am]

BILLING CODE 4910-62-P